SURFACE TRANSPORTATION BOARD

[Docket No. FD 36160]

Great Lakes Terminal Railroad, LLC—Lease and Operation Exemption—Rail Line of Great Lakes Reloading, LLC

Great Lakes Terminal Railroad, LLC (GLTRR), a noncarrier,¹ has filed a verified notice of exemption under 49 CFR 1150.31 to sublease from Great Lakes Reloading, LLC (GLR), and to operate,² approximately 12,500 feet (2.37 miles) of railroad right-of-way and trackage and transloading facilities located at 13535 S. Torrence Avenue, in Chicago, Ill. (the Chicago Transload Facility Trackage).

¹ GLTRR states that the transaction described here is its initial railroad acquisition.

² A draft copy of the operating agreement was submitted with the notice of exemption.

According to GLTRR, there are no mileposts associated with the Chicago Transload Facility Trackage. GLTRR states that Centerpoint Chicago Enterprise, LLC, owns the Chicago Transload Facility Trackage, and leases it to GLR. GLTRR further states that the trackage is used to transload steel rebar, steel pipe, and agriculture and construction equipment from truck to rail. According to GLTRR, the trackage is used in conjunction with interchanging with the Indiana Harbor Belt Railroad Company.

GLTRR asserts that, because the trackage in question will constitute the entire line of railroad of GLTRR, this trackage is a line of railroad under 49 U.S.C. 10901, rather than spur, switching, or side tracks excepted from Board acquisition and operation authority under 49 U.S.C. 10906.³

³ See Effingham R.R.—Pet. for Declaratory Order—Constr. at Effingham, Ill., NOR 41986 et al., slip op. at 5 (STB served Sept. 18, 1998), aff'd sub nom. United Transp. Union-Ill. Legislative Bd. v. STB, 183 F.3d 606 (7th Cir. 1999).

Although GLTRR states in its verified notice that the operations were proposed to be consummated on or about December 1, 2017, this transaction may not be consummated until January 19, 2018 (30 days after the verified notice was filed).⁴

⁴ GLTRR initially submitted its verified notice of exemption on December 8, 2017, but the notice is deemed officially filed on December 20, 2017, when the Board received the appropriate filing fee.

GLTRR certifies that its projected annual revenues as a result of this transaction do not exceed those that would qualify it as a Class III rail carrier and will not exceed $5 million. GLTRR also certifies that there are no provisions or agreements that may limit future interchange with a third-party connecting carrier.

If the verified notice contains false or misleading information, the exemption is void ab initio. Petitions to revoke the exemption under 49 U.S.C. 10502(d) may be filed at any time. The filing of a petition to revoke will not automatically stay the effectiveness of the exemption. Petitions to stay must be filed no later than January 12, 2018 (at least seven days before the exemption becomes effective).

An original and 10 copies of all pleadings, referring to Docket No. FD 36160, must be filed with the Surface Transportation Board, 395 E Street SW, Washington, DC 20423-0001. In addition, a copy of each pleading must be served on GLTRR's representative, David C. Dillon, Dillon & Nash, Ltd., 3100 Dundee Road, Suite 508, Northbrook, IL 60062.

According to GLTRR, this action is categorically excluded from environmental review under 49 CFR 1105.6(c) and from historic reporting under 49 CFR 1105.8(b).

Board decisions and notices are available on our website at “WWW.STB.GOV.”

Decided: January 2, 2018.
By the Board, Scott M. Zimmerman, Acting Director, Office of Proceedings.
Jeffrey Herzig,
Clearance Clerk.

[FR Doc. 2018-00020 Filed 1-4-18; 8:45 am]

BILLING CODE 4915-01-P